ENVIRONMENTAL PROTECTION AGENCY

40 CFR Part 81

Designation of Areas for Air Quality Planning Purposes

CFR Correction

In Title 40 of the Code of Federal Regulations, parts 81 to 85, revised as of July 1, 2000, in § 81.306, beginning on page 98 in the first column, remove the text from the table beginning with “Archuleta County” through the end of the table on page 100 up to the next heading ”Colorado -PM-10”.

[FR Doc. 01-55512 Filed 4-12-01; 8:45 am]

BILLING CODE 1505-01-D